ENVIRONMENTAL PROTECTION AGENCY

[FRL-10016-02-OA]

Farm, Ranch, and Rural Communities Advisory Committee (FRRCC); Notice of Virtual Public Meeting

AGENCY: Environmental Protection Agency (EPA).

ACTION: Notice.

SUMMARY: Pursuant to the Federal Advisory Committee Act (FACA), the Environmental Protection Agency (EPA) is announcing a virtual, open, public meeting of the Farm, Ranch, and Rural Communities Advisory Committee (FRRCC) on November 12-13, 2020, with remote participation only. There will be no in-person gathering for this meeting.

DATES: This virtual public meeting will be held on Thursday, November 12, 2020, from 11 a.m. to approximately 5 p.m., and Friday, November 13, 2020, from 11 a.m. to approximately 5 p.m., Eastern Daylight Time. Members of the public seeking to view the meeting (but not provide oral comments) may register any time prior to the meeting. Members of the public seeking to make oral comments during the virtual meeting must register and contact the Designated Federal Officer directly by 12 p.m. Eastern Daylight Time on November 7, 2020 to be placed on a list of registered commenters and receive special instructions for participation.

ADDRESSES: To register and receive information on how to attend this virtual meeting, please visit: https://www.epa.gov/faca/farm-ranch-and-rural-communities-federal-advisory-committee-frrcc-meeting-calendar. Attendees must register online prior to the meeting to receive instructions for participation.

FOR FURTHER INFORMATION CONTACT: Rebecca Perrin, Designated Federal Officer (DFO), at FRRCC@epa.gov or 202-564-7719. Please note that, due to Coronavirus (COVID-19), there are currently practical limitations on the ability of EPA personnel to collect and respond to mailed “hard copy” correspondence. General information regarding the FRRCC can be found on the EPA website at: www.epa.gov/faca/frrcc.

SUPPLEMENTARY INFORMATION:

I. General Information

The purpose of the FRRCC is to provide policy advice, information, and recommendations to the EPA Administrator on a range of environmental issues and policies that are of importance to agriculture and rural communities. The purpose of this meeting is to discuss topics of relevance to agriculture and rural communities, specifically the two charge topics (1) creating a holistic pesticide program for the future and (2) supporting inter-agency environmental benchmarks with interagency partners on the issues of water quality and quantity and food loss and waste. A copy of the FRRCC charges and meeting agenda will be posted at www.epa.gov/faca/frrcc. This will be the second public meeting of the membership of the FRRCC which was newly appointed in June of 2020. Potentially interested entities may include: Farmers, ranchers, and rural communities and their allied industries; as well as the academic/research community who research environmental issues impacting agriculture; state, local, and tribal government agencies; and nongovernmental organizations.

II. How do I participate in the virtual public meeting?

A. Virtual Meeting

This meeting will be conducted as a virtual conference. You may attend by registering online before the meeting to receive information on how to participate. You may also submit written or oral comments for the committee by contacting the DFO directly per the processes outlined below.

B. Registration

Attendees should register via the link on this website prior to the meeting in order to receive information on how to participate in the virtual meeting: https://www.epa.gov/faca/farm-ranch-and-rural-communities-federal-advisory-committee-frrcc-meeting-calendar.

C. Procedures for Providing Public Comments

Oral Statements: In general, oral comments at this virtual conference will be limited to the Public Comments portions of the Meeting Agenda. Members of the public may provide oral comments limited to three minutes per individual or group, and submit further information in written comments. Persons interested in providing oral statements should register as attendees at the link provided above, and also contact the DFO directly at FRRCC@epa.gov by 12:00 p.m. Eastern Daylight Time on November 7, 2020 to be placed on the list of registered speakers and receive special instructions for participation. Oral commenters will be provided an opportunity to speak in the order in which their request was received by the DFO.

Written Statements: Persons interested in providing written statements pertaining to this committee meeting may email them to the DFO at FRRCC@epa.gov prior to 11:59 p.m. Eastern Daylight Time on November 13, 2020.

D. Availability of Meeting Materials

The Meeting Agenda and other materials for the virtual conference will be posted on the FRRCC website at www.epa.gov/faca/frrcc.

E. Accessibility

Persons with disabilities who wish to request reasonable accommodations to participate in this event may contact the DFO at FRRCC@epa.gov or 202-564-7719 by 12:00 p.m. Eastern Daylight Time on November 5, 2020. All final meeting materials will be posted to the FRRCC website in an accessible format following the meeting, as well as a written summary of this meeting.

Carrie Vicenta Meadows,
Agriculture Advisor to the Administrator.

[FR Doc. 2020-23714 Filed 10-23-20; 8:45 am]

BILLING CODE 6560-50-P